ENVIRONMENTAL PROTECTION AGENCY

[FRL-6563-7]

Availability of “Award of Grants for the Special Projects and Programs Authorized by this Agency's FY 2000 Appropriations Act”

AGENCY: Environmental Protection Agency (EPA).

ACTION: Notice of document availability.

SUMMARY: EPA is announcing availability of a memorandum entitled “Award of Grants for the Special Projects and Programs Authorized by this Agency's FY 2000 Appropriations Act.” This memorandum, dated March 14, 2000, provides information and guidelines on how EPA will award and administer grants for the special projects and programs identified in the State and Tribal Assistance Grants (STAG) account of the Agency's fiscal year (FY) 2000 Appropriations Act (Public Law 106-74). The STAG account provides budget authority for funding 200 identified water, wastewater and groundwater infrastructure projects, as well as budget authority for funding the United States-Mexico Border program and the Alaska Rural and Native Villages program. Each grant recipient will receive a copy of this document from EPA.

ADDRESSES: See SUPPLEMENTARY INFORMATION section for electronic access of the guidance memorandum.

FOR FURTHER INFORMATION CONTACT: Valerie G. Martin, (202) 260-7259 or martin.valerie@epamail.epa.gov.

SUPPLEMENTARY INFORMATION: The subject memorandum may be viewed and downloaded from EPA's homepage, http://www.epa.gov/owm/mab/owm0315.pdf.

Dated: March 16, 2000.
Michael B. Cook,
Director, Office of Wastewater Management.

[FR Doc. 00-7124 Filed 3-21-00; 8:45 am]

BILLING CODE 6560-50-P